ENVIRONMENTAL PROTECTION AGENCY

[FRL-7577-4]

Science Advisory Board Staff Office; Committee on Valuing the Protection of Ecological Systems and Services Notification of Upcoming Public Workshop and Public Advisory Committee Meeting

AGENCY: Environmental Protection Agency (EPA).

ACTION: Notice.

SUMMARY: The EPA Science Advisory Board (SAB) Staff Office is announcing a non-advisory public workshop and a public advisory meeting of the Board's Committee on Valuing the Protection of Ecological Systems and Services (Committee).

DATES: October 27, 2003. The Committee will participate in an Initial EPA Background Workshop for the Committee from 9 a.m.-6 p.m. (Eastern Time).

October 28, 2003. A public advisory meeting for the Committee will be held from 8:30 a.m. to 6 p.m. on October 28, 2003.

ADDRESSES: The meeting location for the October 27, 2003 workshop and the October 28, 2003 Committee meeting will be in Washington, DC. The meeting location will be announced on the SAB Web site, http://www.epa.gov/sab in advance of the meeting.

FOR FURTHER INFORMATION CONTACT: Any member of the public wishing further information regarding the upcoming workshop, the upcoming advisory meeting, or the Committee may contact Dr. Angela Nugent, Designated Federal Officer (DFO), U.S. EPA Science Advisory Board (1400A), 1200 Pennsylvania Avenue, NW., Washington, DC 20460; by telephone/voice mail at (202) 564-4562; or via e-mail at nugent.angela@epa.gov. General information about the SAB can be found in the SAB Web site at http://www.epa.gov/sab.

SUPPLEMENTARY INFORMATION: Background: Pursuant to the Federal Advisory Committee Act, Public Law 92-463, Notice is given that the Committee will hold a public meeting, as described above, to provide initial consultative advice on the development of EPA's Strategic Plan for Ecological Benefits and to plan the Committee's work.

Background on the Committee and its charge was provided in a Federal Register notice published on March 7, 2003 (68 FR 11082-11084). The overall charge to the Committee is to assess Agency needs and the state of the art and science of valuing protection of ecological systems and services, and then to identify key areas for improving knowledge, methodologies, practice, and research.

At its first advisory meeting, the Committee will be providing consultative advice on the Agency's plans to develop an “Ecological Benefits Assessment Strategic Plan.” Documents related to that consultation will be available at the following website, maintained by EPA's National Center for Environmental Economics at: http://yosemite.epa.gov/ee/epa/eed.nsf/webpages/homepage?Opendocument. A notice in the “News Alerts” box will direct readers to the materials.

The purpose of the day-long workshop, which precedes the advisory meeting, will be to provide a brief introduction for the Committee to the major types of EPA decisions involving valuing ecological systems and services, current EPA tools and EPA's needs.

Agendas for the public workshop and advisory meeting will be posted on the SAB website ten days before the dates of those events.

Procedures for Providing Public Comment. It is the policy of the EPA Science Advisory Board (SAB) Staff Office to accept written public comments of any length, and to accommodate oral public comments whenever possible. The EPA SAB Staff Office expects that public statements presented at its meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) identified above at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the DFO at the address/contact information noted above in the following formats: One hard copy with original signature, and one electronic copy via e-mail (acceptable file format: Adobe Acrobat, WordPerfect, Word, or Rich Text files (in IBM-PC/Windows 95/98 format)). Those providing written comments and who attend the meeting are also asked to bring 35 copies of their comments for public distribution.

Meeting Accommodations: Individuals requiring special accommodation to access these meetings, should contact Dr. Nugent at least five business days prior to the meeting so that appropriate arrangements can be made.

Dated: October 16, 2003.
Vanessa T. Vu,
Director, EPA Science Advisory Board Staff Office.

[FR Doc. 03-26665 Filed 10-21-03; 8:45 am]

BILLING CODE 6560-50-P